DEPARTMENT OF EDUCATION

Notice of Implementation of Constitution Day and Citizenship Day on September 17 of Each Year

AGENCY: Office of Innovation and Improvement, Department of Education.

ACTION: Notice of implementation of Constitution Day and Citizenship Day.

SUMMARY: The Assistant Deputy Secretary for Innovation and Improvement announces that, pursuant to legislation passed by Congress, educational institutions receiving Federal funding are required to hold an educational program pertaining to the United States Constitution on September 17 of each year. This notice implements this provision as it applies to educational institutions receiving Federal funding from the Department.

FOR FURTHER INFORMATION CONTACT: Alex Stein, U.S. Department of Education, 400 Maryland Avenue, SW., room 4W218, Washington, DC 20202-5910. Telephone: (202) 895-9085 or via Internet: Alex.Stein@ed.gov.

If you use a telecommunications device for the deaf (TDD), you may call the Federal Relay Service (FRS) at 1-800-877-8339. Individuals with disabilities may obtain this document in an alternative format (e.g., Braille, large print, audiotape, or computer diskette) on request to the contact person listed in section.

SUPPLEMENTARY INFORMATION: This notice informs educational institutions receiving Federal funds from the U.S. Department of Education (Department) of a new statutory requirement for implementation of an educational program pertaining to the United States Constitution, on a date designated by statute as Constitution Day and Citizenship Day (“Constitution Day”). This Congressional initiative is authorized by Section 111 of Division J of Pub. L. 108-447, the “Consolidated Appropriations Act, 2005,” Dec. 8, 2004; 118 Stat. 2809, 3344-45 (Section 111). The Assistant Deputy Secretary for Innovation and Improvement (Assistant Deputy Secretary) takes this action in order to implement this provision as it applies to educational institutions receiving Federal funding from the Department.

Section 111(b) states “[e]ach educational institution that receives Federal funds for a fiscal year shall hold an educational program on the United States Constitution on September 17 of such year for the students served by the educational institution.” For purposes of the Department's implementation of this requirement, “educational institutions” includes but is not limited to “local educational agencies” and “institutions of higher education” receiving Federal funding from the Department.

Section 111 applies to all educational institutions receiving Federal funding, not only those receiving Federal funding from the Department. However, the Department's authority only extends to those educational institutions receiving funding from the Department, and consequently the Department can only regulate with regard to those institutions.

Section 111 requires that Constitution Day be held on September 17 of each year, commemorating the September 17, 1787 signing of the Constitution. However, when September 17 falls on a Saturday, Sunday, or holiday, Constitution Day shall be held during the preceding or following week.

Section 111 does not authorize funds to carry out this requirement, and Section 111(d) indicates that this section shall apply “without fiscal year limitation.” Accordingly, the Assistant Deputy Secretary intends that this notice pertain to this fiscal year and all subsequent years.

Some informational resources pertaining to the Constitution are listed below. In addition to these, the Department is aware that there may be other public and private resources available that may be helpful to educational institutions in implementing Constitution Day. While the Department does not endorse any particular program or Web site, this information is provided because it may be of use to educational institutions developing their Constitution Day programs.

One of the Library of Congress' repositories for Constitutional documents and information may be accessed at: http://memory.loc.gov/ammem/bdsds/bdsdhome.html.

The National Archives also has a Web site with a scan of the U.S. Constitution available online at: http://www.archives.gov/national_archives_experience/charters/constitution.html: In addition, the National Archives has a nationwide network of research facilities, including presidential libraries that welcome students as young as 14 years of age. Information about the facilities (by region and state) can be located online at: http://www.archives.gov/facilities/index.html.

In addition to the resources mentioned above, it is our understanding that the U.S. Office of Personnel Management will be making available to all Federal agencies, information to help train and educate Federal employees on the Constitution and, in particular, its relationship to the Oath of Office Federal employees take. This information will be posted shortly on the OPM Web site, at: http://www.opm.gov/. We expect that educational institutions may find this material useful in planning their Constitution Day activities.

Electronic Access to This Document: You may view this document, as well as all other Department of Education documents published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 19, 2005.
Nina Shokraii Rees,
Assistant Deputy Secretary for Innovation and Improvement.

[FR Doc. 05-10355 Filed 5-23-05; 8:45 am]

BILLING CODE 4000-01-P